UNITED STATES INTERNATIONAL TRADE COMMISSION

[Investigation Nos. 701-TA-467 and 731-TA-1164-1165 (Preliminary)]

Narrow Woven Ribbons With Woven Selvedge From China and Taiwan

Determinations

On the basis of the record ¹ developed in the subject investigations, the United States International Trade Commission (Commission) determines, pursuant to sections 703(a) and 733(a) of the Tariff Act of 1930 (19 U.S.C. 1671b(a) and 19 U.S.C. 1673b(a)) (the Act), that there is a reasonable indication that an industry in the United States is threatened with material injury by reason of imports from China of narrow woven ribbons with woven selvedge, primarily provided for in subheading 5806.32 of the Harmonized Tariff Schedule of the United States, that are alleged to be subsidized by the Government of China, and by imports of such merchandise from China and Taiwan that are alleged to be sold in the United States at less than fair value (LTFV).

¹ The record is defined in sec. 207.2(f) of the Commission's Rules of Practice and Procedure (19 CFR 207.2(f)).

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in these investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations, have the right to appear as parties in Commission antidumping and countervailing duty investigations. The Secretary will prepare a public service list containing the names and addresses of all persons, or their representatives, who are parties to the investigations.

Background

On July 9, 2009, a petition was filed with the Commission and Commerce by Berwick Offray LLC and its wholly owned subsidiary Lion Ribbon Company, Inc., Berwick, PA, alleging that an industry in the United States is materially injured and threatened with material injury by reason of subsidized imports of narrow woven ribbons with woven selvedge from China and by imports of such merchandise from China and Taiwan sold in the United States at less than fair value. Accordingly, effective July 9, 2009, the Commission instituted countervailing duty investigation No. 701-TA-467 and antidumping duty investigations Nos. 731-TA-1164-1165 (Preliminary).

Notice of the institution of the Commission's investigations and of a public conference to be held in connection therewith was given by posting copies of the notice in the Office of the Secretary, U.S. International Trade Commission, Washington, DC, and by publishing the notice in the Federal Register of July 15, 2009 (74 FR 34362). The conference was held in Washington, DC, on July 30, 2009, and all persons who requested the opportunity were permitted to appear in person or by counsel.

The Commission transmitted its determinations in these investigations to the Secretary of Commerce on August 24, 2009. The views of the Commission are contained in USITC Publication 4099 (August 2009), entitled Narrow Woven Ribbons with Woven Selvedge from China and Taiwan: Investigation Nos. 701-TA-467 and 731-TA-1164-1165 (Preliminary).

By order of the Commission.
Issued September 1, 2009.
Marilyn R. Abbott,
Secretary to the Commission.

[FR Doc. E9-21443 Filed 9-4-09; 8:45 am]

BILLING CODE 7020-02-P